DEPARTMENT OF TRANSPORTATION

Federal Railroad Administration

49 CFR Parts 229 and 232

[Docket No. FRA-2006-26175, Notice No. 5]

RIN 2130-AB84

Electronically Controlled Pneumatic Brake Systems

AGENCY: Federal Railroad Administration (FRA), Department of Transportation (DOT).

ACTION: Final rule; delay of effective date.

SUMMARY: On October 16, 2008, the final rule in this proceeding providing regulatory relief for implementation and use of electronically controlled pneumatic brake systems was published with an effective date of December 15, 2008. See 73 FR 61512. See 73 FR 61512. To comply with the Congressional Review Act, the effective date of the final rule is being delayed to January 12, 2009.

DATES: The effective date of the final rule published on October 16, 2008, is delayed to January 12, 2009.

FOR FURTHER INFORMATION CONTACT: James Wilson, Office of Safety Assurance and Compliance, Motive Power and Equipment Division, RRS-14, Mail Stop 25, Federal Railroad Administration, 1200 New Jersey Avenue, SE., Washington, DC 20590 (telephone 202-493-6259); or Jason Schlosberg, Trial Attorney, Office of Chief Counsel, Mail Stop 10, Federal Railroad Administration, 1200 New Jersey Avenue, SE., Washington, DC 20590 (telephone 202-493-6032).

SUPPLEMENTARY INFORMATION: The final rule in this proceeding, published on October 16, 2008, indicated that it would be effective on December 15, 2008. See 73 FR 61512. Pursuant to the Congressional Review Act, codified at 5 U.S.C. 802, each major rule shall take effect 60 days after the final rule is either published in the Federal Register or is received by Congress, whichever is later. The final rule in this proceeding was received by Congress on November 13, 2008. Accordingly, the final rule's effective date will be January 12, 2009.

Issued in Washington, DC, on December 2, 2008.
Clifford C. Eby,
Acting Federal Railroad Administrator.

[FR Doc. E8-28893 Filed 12-2-08; 4:15 pm]

BILLING CODE 4910-06-P